FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011794-001.

Title: COSCON/KL/YMUK/Hanjin/Senator Worldwide Slot Allocation & Sailing Agreement.

Parties:

COSCO Container Lines Company, Limited

Kawasaki Kisen Kaisha, Ltd.

Yangming (UK), Ltd.

Hanjin Shipping Co., Ltd.

Senator Lines GmbH.

Synopsis: The proposed amendment revises the slot allocations among the parties, revises the number of vessels contributed by the parties, and expands the geographic scope to worldwide. The amendment also conforms the agreement to European Union requirements, makes various editorial changes, and republishes the agreement in a second edition. Several existing space sharing and sailing agreements between some or all of the parties will be cancelled.

Agreement No.: 011832.

Title: Contship/CMA CGM-UASC Space Charter Agreement.

Parties:

Contship Containerlines

CMA CGM, S.A.

United Arab Shipping Co. S.A.G.

Synopsis: The agreement authorizes Contship and CMA CGM to charter space to United Arab Shipping in the trade between United States East Coast ports, on the one hand, and ports in India, Sri Lanka, and South East Asia (Bangladesh to Philippines range) and ports bordering the Mediterranean and Red Seas, on the other hand.

Agreement No.: 201140.

Title: NYSA-ILA Tonnage Assessment Agreement.

Parties:

New York Shipping Association, Inc. International Longshoremen's Association.

Synopsis: This agreement replaces and supersedes the current NYSA-ILA Assessment Agreement, FMC Agreement No. 200063 and all amendments thereto, and updates and revises the assessment programs for the funding of obligations arising under NYSA-ILA collective bargaining agreements.

By Order of the Federal Maritime Commission.
Dated: November 15, 2002.
Bryant L. VanBrakle,
Secretary.

[FR Doc. 02-29505 Filed 11-19-02; 8:45 am]

BILLING CODE 6730-01-P